DEPARTMENT OF COMMERCE

National Oceanic and Atmospheric Administration

RIN 0648-XZ17

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council) and its Joint Spiny Dogfish Committee, its Ecosystems and Oceans Planning Committee, its Demersal and Coastal Migratory Committee, its Law Enforcement Committee, its Executive Committee, and its Squid, Mackerel, and Butterfish Committee will hold public meetings.

DATES: The meetings will be held on Tuesday, October 12, 2010, through Thursday, October 14, 2010.

ADDRESSES: Congress Hall, 251 Beach Avenue, Cape May, New Jersey 08204; telephone: 609-884-8421.

Council Address: Mid-Atlantic Fishery Management Council, 800 N. State St., Suite 201, Dover, DE 19901-3910; telephone: 302-674-2331.

FOR FURTHER INFORMATION CONTACT: Christopher M. Moore Ph.D., Executive Director, Mid-Atlantic Fishery Management Council; telephone: 302-674-2331 ext. 255.

SUPPLEMENTARY INFORMATION:

Agenda

On Tuesday, October 12, 2010-The Joint Spiny Dogfish Committee with meet from 9:30 a.m. until 12 p.m. The Ecosystems and Oceans Planning Committee will meet from 1 p.m. until 4 p.m. The Demersal and Coastal Migratory Committee will meet from 4 p.m. until 5 p.m. The Law Enforcement Committee will meet from 5 p.m. until 5:30 p.m. On Wednesday, October 13, 2010-The Executive Committee will hold a closed meeting from 8 a.m. until 9 a.m. The Council will convene at 9 a.m. From 9 a.m. until 10 a.m. the Council will receive a (MARCO) presentation. Spiny Dogfish Management Measures for 2011 and beyond will be discussed from 10 a.m. until 12 p.m. The Squid, Mackerel, and Butterfish Committee will meet from 1 p.m. until 3 p.m. On Thursday, October 14, 2010-The Council will convene at 8 a.m. Parliamentary Training will be held from 8 a.m. until 10 a.m. From 10 a.m. until 1 p.m. the Council will convene to conduct its regular Business Session, receive Organizational Reports, Council Liaison Reports, Executive Director's Report, receive a report on the status of MAFMC's FMPs, any continuing and/or new business, and Committee Reports.

Agenda items by day for the Council's Committees and the Council itself are: On Tuesday, October 12-The Joint Spiny Dogfish Committee will review and discuss SSC and Monitoring Committee recommendations as they relate to dogfish management measures for the 2011 fishing year and beyond and develop management measure recommendations for the 2011 fishing year and beyond. The Ecosystems and Ocean Planning Committee will receive an Atlantic Wind Connection project presentation by Mark Melnyk, a Fishermen's Energy wind project presentation by Dan Cohen, and a presentation by Michele Bachman on the New England Fishery Management Council's Omnibus Habitat Amendment. The Demersal and Coastal Migratory Committee will identify and discuss issues associated with present scup allocations. The Law Enforcement Committee will review the Fisheries Achievement Award (FAA) nominations and recommend a recipient for recognition. On Wednesday, October 13-The Executive Committee will hold a closed meeting. The Council will convene to receive a MARCO presentation by Laura McKay, Program Manager Virginia Coastal Zone Program. The Council will review and discuss the Scientific and Statistical Committee (SSC), the Monitoring Committee and the Joint Committee regarding Spiny Dogfish specifications as they relate to dogfish management measures for the 2011 fishing year and beyond and develop management measure recommendations for the 2011 fishing year and beyond. The Squid, Mackerel, and Butterfish Committee will meet as a Committee of the Whole to review public comments on the Supplemental Environmental Impact Statement (EIS) for Amendment 11 and select alternatives for final submission of Amendment 11. On Thursday October 14-The Council will convene to receive Parliamentary Training from Collette Trohan from A Great Meeting, Inc. The Council will hold its regular Business Session to approve the June and August minutes, receive Organizational Reports, the Liaison Reports, the Executive Director's Report, Status of the FMP's, conduct any continuing and/or new business, and receive Committee Reports.

Special Accommodations

This meeting is physically accessible to people with disabilities. Requests for sign language interpretation or other auxiliary aid should be directed to M. Jan Saunders (302-526-5251) at least five days prior to the meeting date.

Dated: September 20, 2010.
Tracey L. Thompson,
Acting Director, Office of Sustainable Fisheries, National Marine Fisheries Service.

[FR Doc. 2010-23777 Filed 9-22-10; 8:45 am]

BILLING CODE 3510-22-S